DEPARTMENT OF HEALTH AND HUMAN SERVICES

Office of the Secretary

[Document Identifier: OS-4040-New]

Notice of Proposed Requirement To Establish Government-wide Standard Data Elements for Use by All Federal Grant Making Agencies—SF-424 Individual

AGENCY: Grants.gov Program Management Office, DHHS.

In compliance with the requirement of the Paperwork Reduction Act of 1995, the Grants.gov Program Management Office, one of the 26 E-Government initiatives, managed by the Department of Health and Human Services is publishing the following summary of proposed collection for public comment. Interested individuals are invited to send comments regarding any aspect of this collection of information.

Type of Information Collection Request: Emergency.

Title of Information Collection Request: SF-424 Individual.

Form/OMB No.: OS-4040-New.

Use: The discretionary SF-424 was established as the government-wide standard data set and form for Discretionary grant applications in July 31, 2003 [Federal Register Notice 68 FR 44974]. The SF-424 consolidates grant application related data and forms currently used by Federal grant-making agencies and organizations for their discretionary grant programs and replaces numerous agency-specific forms. The effect has been to reduce the administrative burden to the Federal grants community, which includes applicants/grantees and Federal staff involved in grants-related activities.

Use of the standard data elements was implemented through the electronic grants application process of Grants.gov, which was deployed in October 2003 and is part of the implementation of the Federal Financial Assistance Management Improvement Act of 1999 (Pub. L. 106-107). Federal agencies and applicants under discretionary grant programs now use the standard SF-424 discretionary data set and definitions for paper and electronic applications.

Comments received on the SF-424 discretionary data set and form by the public included the need for a further streamlined version of the SF-424 for use by individuals. In response to this need, the SF-424 Individual (SF-424 (I)) data set and form is proposed to support the streamlined application requirements of individuals and to reduce the administrative burden placed on this community. Although initially envisioned for use by the cultural agencies, such as NEA, NEH and IMLS for their applicant communities, the SF-424 (I) will support all grant-making agencies where individuals, rather than organizations, can apply for Federal grants.

Federal agencies will not be required to use the SF-424 (I) nor be required to collect all of the information included in the proposed data set. The agency will identify the data that must be provided by applicants through instructions that will accompany the application package.

An estimate of the total burden was submitted during the first information collection package for the discretionary SF-424 on April 8, 2003, Federal Register notice [68 FR 17090]. At that time, an estimated 100,000 total number of responses with an estimated average time per response of 20 minutes per form were calculated. The collection information for the SF-424 (I) is estimated similarly, subject to change based on comments received during this public comment period.

Frequency: Recordkeeping, Reporting, on occasion.

Affected: Individuals.

Total Annual Respondents: 100,000.

Total Annual Responses: 100,000.

Average Burden Per Response: 20 minutes.

To obtain copies of the supporting statement and any related forms for the proposed paperwork collections referenced above, access the HHS Web site address at http://www.hhs.gov/oirm/infocollect/pending/ or e-mail your request, including your address, phone number, OMB number, and OS document identifier, to naomi.cook@hhs.gov, or call the Reports Clearance Office on (202) 690-6162. Written comments and recommendations for the proposed information collections must be mailed within 30-days directly to the Desk Officer at the address below: OMB Desk Officer: Katherine Astrich, OMB Human Resources and Housing Branch, Attention: (OMB#OS-4040-New), New Executive Office Building, Room 10235, Washington, DC 20201.

Dated: March 15, 2005.
Robert E. Polson,
Office of the Secretary, Paperwork Reduction Act Reports Clearance Officer.

[FR Doc. 05-5789 Filed 3-23-05; 8:45 am]

BILLING CODE 4168-17-P